DEPARTMENT OF AGRICULTURE

Agricultural Marketing Service

7 CFR Part 1230

[Docket No. AMS-LS-07-0143]

Pork Promotion, Research and Consumer Information Program; Section 610 Review

AGENCY: Agricultural Marketing Service, USDA.

ACTION: Notice of review and request for comments.

SUMMARY: This action announces the Agricultural Marketing Service's (AMS) review of the Pork Promotion, Research, and Consumer Information Program (Program), which is conducted under the Pork Promotion, Research, and Consumer Information Order (Order), under the criteria contained in section 610 of the Regulatory Flexibility Act (RFA).

DATES: Written comments on this notice must be received by May 27, 2008.

ADDRESSES: Interested persons are invited to submit written comments concerning this notice of review. Comments must be sent to Kenneth R. Payne, Chief, Marketing Programs Branch, Livestock and Seed Program, AMS, USDA, Room 2628-S, STOP 0251, 1400 Independence Avenue, SW., Washington, DC 20250-0251; Fax: (202) 720-1125; or, online at www.regulations.gov. All comments should reference the docket number, the date, and the page number of this issue of the Federal Register. Comments will be available for public inspection via the internet at www.regulations.gov or during regular business hours at the address above.

FOR FURTHER INFORMATION CONTACT: Kenneth R. Payne, Chief, Marketing Programs Branch; Telephone: (202) 720-1115; Fax: (202) 720-1125, or E-mail Kenneth.Payne@usda.gov.

SUPPLEMENTARY INFORMATION: The Order (7 CFR part 1230) is authorized under the Pork Promotion, Research, and Consumer Information Act of 1985 (Act) (7 U.S.C. 4801 et seq.). As part of a comprehensive strategy to strengthen the pork industry's position in the marketplace, this national pork program maintains and expands existing domestic and foreign markets and develops new markets for pork and pork products. The program is funded by a mandatory assessment of $0.40 per-hundred-dollars of market value. All producers owning and marketing swine, regardless of the size of their operation or the value of their swine, must pay the assessment. A comparable assessment is collected on all imported swine, pork, and pork products. Assessments collected under this program are used for promotion, research, consumer information, and industry information.

The national program is administered by the National Pork Board (Board), which is composed of 15 producer members. Board members serve 3-year terms, but no individual may serve more than two consecutive 3-year terms. Producer members are selected by the National Pork Producers Delegate Body, a group of 163 producer and importer members that represent all 50 States and importers. The program became effective on September 5, 1986, when the Order was issued. Assessments began on November 1, 1986.

On February 18, 1999, AMS published in the Federal Register (64 FR 8014) its plan to review certain regulations. On January 4, 2002, AMS published in the Federal Register (67 FR 525) an update to its plan to review regulations, including the Pork Promotion and Research Program, which is conducted under the Order, under criteria contained in section 610 of the RFA (5 U.S.C. 601-612). Because many AMS regulations impact small entities, AMS decided, as a matter of policy, to review certain regulations that, although may not meet the threshold requirement under section 610 of the RFA, warrant review. Accordingly, this notice and request for comments concerns the Order.

The purpose of the review is to determine whether the Order should continue without change or whether it should be amended or rescinded (consistent with the objectives of the Act) to minimize the impact on small entities. AMS will consider the following factors: (1) The continued need for the Order; (2) The nature of complaints or comments received from the public concerning the Order; (3) the complexity of the Order; (4) the extent to which the Order overlaps, duplicates, or conflicts with other Federal rules, and, to the extent feasible, with State and local governmental rules; and (5) the length of time since the Order has been evaluated or the degree to which technology, economic conditions, or other factors have changed in the area affected by the Order.

Written comments, views, opinions, and other information regarding the Order's impact on small businesses are invited.

Dated: March 21, 2008.
Lloyd C. Day,
Administrator, Agricultural Marketing Service.

[FR Doc. E8-6246 Filed 3-26-08; 8:45 am]

BILLING CODE 3410-02-P